ENVIRONMENTAL PROTECTION AGENCY

[OPP-00686; FRL-6752-3]

National Assessment of the Worker Protection Program - Workshop #2; Notice of Public Meeting

AGENCY: Environmental Protection Agency (EPA).

ACTION: Notice of public meeting.

SUMMARY: The National Assessment of the Worker Protection Program Workshop #2 will be held in Sacramento, California. Workgroups will be established to further discuss national worker protection implementation andprogram effectiveness as related to training, enforcement, compliance and retaliation, and communications. This is the second in a series of workshops and represents an opportunity for EPA, states, agricultural employers and worker representatives to engage in problem solving workgroup discussions. In cooperation with the National Environmental Education and Training Foundation, the Office of Pesticide Programs is hosting this national assessment meeting to further discuss the agricultural worker protection regulation, the implementation and effectiveness of its provisions, the enforcement at the state level, and the possible future directions for the program.

DATES: December 11-13, 2000. The workshop is scheduled to begin at 12:30 pm on Monday, December 11 and will conclude at 5:30 pm. The Tuesday and Wednesday sessions begin at 8:00 am and end at 5:30 pm.

ADDRESSES: The meeting will be held at the Hyatt Regency Sacramento, 1209 L Street, Sacramento, California 95814.

FOR FURTHER INFORMATION CONTACT: Michael Walsh, U.S. EPA Office of Pesticide Programs (7506C), 1200 Pennsylvania Avenue NW, Washington, DC 20460. Telephone: (703) 308-2972. e-mail: walsh.michael@epa.gov.

SUPPLEMENTARY INFORMATION:

I. Does this Action Apply to Me?

This action is directed to the public in general, however, the size of the meeting facilities could limit the number of participants. This action may be of interest to farm worker groups, agricultural employers, state governments, county extension services, and pesticide product manufacturers. If you have any questions regarding the applicability of this action to a particular entity, consult the party listed under FOR FURTHER INFORMATION CONTACT.

II. How Can I Get Copies of this Document?

Electronically. You may obtain electronic copies of this document, and certain other related documents that might be available electronically, from the EPA Internet Home Page at http://www.epa.gov/. You may also go directly to the Federal Register listings at http://www.epa.gov/fedrgstr/.

III. How Can I Participate in this Meeting and is there a Deadline?

You may request to participate in this meeting and register by phone, by fax, through the mail, or electronically by no later than November 14, 2000. Since space is limited, we recommend registering as soon as possible. Please contact Meetings Management, Inc., P.O. Box 30045, Alexandria, Virginia 22310, Tel: (703) 922-7944, Fax: (703) 922-7780, e-mail: Mmagnini@BellAtlantic.net. Please also note that you must make your own hotel room reservations.

List of Subjects

Environmental protection, agricultural worker protection.

Dated: October 19, 2000.
Anne E. Lindsay,
Director, Field and External Affairs Division, Office of Pesticide Programs.

[FR Doc. 00-27663 Filed 10-26-00; 8:45 am]

BILLING CODE 6560-50-S